FEDERAL COMMUNICATIONS COMMISSION

[CC Docket No. 92-237; DA 00-1980]

Next Meeting of the North American Numbering Council

AGENCY: Federal Communications Commission.

ACTION: Notice.

SUMMARY: On August 29, 2000, the Commission released a public notice announcing the September 19 and 20, 2000, meeting and agenda of the North American Numbering Council (NANC). The intended effect of this action is to make the public aware of the NANC's next meeting and its agenda.

FOR FURTHER INFORMATION CONTACT: Jeannie Grimes at (202) 418-2320 or jgrimes@fcc.gov. The address is: Network Services Division, Common Carrier Bureau, Federal Communications Commission, The Portals, 445 12th Street, SW, Suite 6A320, Washington, DC 20554. The fax number is: (202) 418-2345. The TTY number is: (202) 418-0484.

SUPPLEMENTARY INFORMATION: Released: August 29, 2000.

The North American Numbering Council (NANC) has scheduled a meeting to be held Tuesday, September 19, 2000, from 8:30 a.m. until 5:00 p.m., and on Wednesday, September 20, from 8:30 a.m., until 12 noon. The meeting will be held at the Federal Communications Commission, Portals II, 445 12th Street, SW, Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Jeannie Grimes at the address under FOR FURTHER INFORMATION CONTACT, stated above.

Proposed Agenda—Tuesday, September 19, 2000

1. Approval of June 20-21 and July 18-19, 2000, meeting minutes.

2. North American Numbering Plan Administration (NANPA) Report. Presentation of NANP exhaust (with pooling) projection; status of Central Office Code applications; update on COCUS/NRUF submissions and electronic file transfer (EFT) format. Results of 1Q00 Neutrality audit.

3. North American Numbering Plan Administration (NANPA) Oversight Working Group Report. Recommendation regarding CO Code application compensation adjustment and review of enterprise services.

4. Legal Expertise Working Group Report. Discussion of North American Numbering Plan Billing and Collection, Inc., (NBANC) recovery of NANPA past costs.

5. North American Numbering Plan Billing and Collection (NBANC) Report.

6. Numbering Resource Optimization (NRO) Working Group Report. Status of update on development of ITN and UNP recommendation (NRO R&O paragraph 231), and status of fees for reserved numbers (paragraph 25).

7. Industry Numbering Committee (INC) Report.

8. Toll Free Access Codes Issue Management Group (IMG) Report.

9. Ad Hoc Voluntary UNP Study Group Report. Presentation of Business Rule Model.

10. Local Number Portability Administration (LNPA) Working Group Report. Wireless Number Portability Subcommittee report, and status of Third Wireline Wireless Integration Report.

11. Discussion of NANC Carrier Identification Code (CIC) assignment, CC Docket 94-129 (rel. August 15, 2000).

Wednesday, September 20, 2000

12. Steering Group Report.

13. Telcordia Technologies, Inc., tutorial on unified messaging service.

14. NANC Discussion Group on charging for telephone numbers.

15. Reconsideration of establishment of a NANC Issue Management Group to study numbering resource demand from new services (e.g., unified messaging services). Presentation by JAX.com, Inc., scheduled for the October 17-18, 2000 meeting.

16. Limited Liability Corporations (LLCs) and Number Portability Administration Centers (NPAC) activity update.

17. Public Participation (5 minutes each, if any).

18. Other Business.

19. Action Items and Decisions Reached.

Federal Communications Commission.
L. Charles Keller,
Chief, Network Services Division, Common Carrier Bureau.

[FR Doc. 00-22558 Filed 8-31-00; 8:45 am]

BILLING CODE 6712-01-P